DEPARTMENT OF JUSTICE

Appendix B Guidelines for Reviewing Applications for Compensation and Reimbursement of Expenses Filed Under United States Code by Attorneys in Larger Chapter 11 Cases; Correction

AGENCY: Executive Office for United States Trustees, Justice.

ACTION: Notice of internal procedural guidelines; correction.

SUMMARY: The Executive Office for United States Trustees published a notice of internal procedural guidelines in the Federal Register of June 17, 2013, concerning guidelines for reviewing applications for compensation and reimbursement of expenses filed by attorneys in larger chapter 11 cases with $50 million or more in assets and $50 million or more in liabilities, aggregated for jointly administered cases. The DATES caption of the June 17, 2013 notice established an effective date for the guidelines of November 1, 2013. However, the text of the guidelines contained an inconsistent reference to the effective date. This notice corrects that reference in the text to conform it to the controlling effective date of November 1, 2013.

FOR FURTHER INFORMATION CONTACT: Nan Roberts Eitel, Associate General Counsel for Chapter 11 Practice, Executive Office for United States Trustees, 441 G St. NW., Suite 6150, Washington, DC 20530.

Correction: In the Federal Register of June 17, 2013, in FR Doc. 2013-14323, on page 36249, in the first column, correct numbered paragraph 3 to read:

3. The United States Trustees will use these Guidelines to review applications for compensation filed by attorneys employed under sections 327 or 1103 of the Code in all chapter 11 cases that meet the threshold and that are filed on or after November 1, 2013. The Guidelines generally will not apply to counsel retained as an ordinary course professional pursuant to appropriate court order or local rule (“ordinary course professional”), unless the professional is required to file a fee application under such court order or local rule.

Dated: June 28, 2013.
Rosemary Hart,
Special Counsel and Liaison to the Federal Register.

[FR Doc. 2013-16123 Filed 7-3-13; 8:45 am]

BILLING CODE 4410-40-P